NUCLEAR REGULATORY COMMISSION

International Conference on Wire System Aging

AGENCY: Nuclear Regulatory Commission.

ACTION: Notice of meeting.

SUMMARY: The International Conference on Wire System Aging (ICWSA) will be held April 23-25, 2002, from 8:30 a.m. to 5 p.m. at the DoubleTree Hotel at 1750 Rockville Pike, Rockville, Maryland, USA.

The conference has a three-fold purpose: (1) To review current practices and programs for understanding and managing wire system aging, (2) to exchange information on the current status of research related to the issue, and (3) to identify technical issues and programs of interest for collaborative research. The conference will focus on four specific topics as they relate to wire system aging:

• Reliability Physics Modeling of Wire System Aging;

• Fire Risk Assessment of Wire System Aging;

• Risk Significance of Wire System Aging; and

• Prognostics and Diagnostics for Installed Wire Systems.

Michael Mayfield, Director of the Division of Engineering Technology of the NRC Office of Nuclear Regulatory Research, will open the conference on Tuesday, April 23, and Ashok C. Thadani, Director of the NRC Office of Nuclear Regulatory Research, will be the keynote speaker.

Technical sessions on each of the four topics will be held Tuesday and Wednesday. Each session will include technical papers, followed by question and answer periods. On Thursday morning a general session on initiatives and insights on Wire System Aging will be held. This session will contain presentations by international wire system experts regarding initiatives in their countries to address wire system aging, along with presentations on initiatives in the USA.

On Thursday afternoon, April 25, an expert panel will discuss issues related to wire system aging, along with the future direction of collaborative research to address these issues. Panel members will include Dr. Nilesh Chokshi, NRC Office of Nuclear Regulatory Research; Dr. Elliot Cramer, NASA-Langley; and Dr. John Brewer, Department of Transportation.

Technical exhibits will be on display all three days of the conference. These exhibits will demonstrate state-of-the-art cable monitoring techniques, as well as new advances in cable construction.

The conference is open to the public and there is no registration fee. However, attendance will be limited to 200 people, and advance registration for the conference is strongly recommended. Those who wish to attend are encouraged to register in advance on the ICWSA Web site (www.bnl.gov/ICWSA) or by contacting Susan Monteleone, Brookhaven National Laboratory, Building 130, Upton, NY 11973-5000, telephone (631) 344-7235; or Jit Vora (301) 415-5833, Office of Nuclear Regulatory Research, U.S. Nuclear Regulatory Commission, Washington, DC 20555.

Dated at Rockville, Maryland, this 27th day of March 2002.
For the Nuclear Regulatory Commission.
Michael E. Mayfield,
Director, Division of Engineering Technology, Office of Nuclear Regulatory Research.

[FR Doc. 02-8039 Filed 4-2-02; 8:45 am]

BILLING CODE 7590-01-P